FEDERAL MARITIME COMMISSION

[FMC-2024-0016]

Renewal of Agency Information Collection of a Previously Approved Collection; 60-Day Public Comment Request; Passenger Vessel Operators

AGENCY: Federal Maritime Commission.

ACTION: Notice and request for comment.

SUMMARY: The Federal Maritime Commission (Commission) is giving public notice that the agency has submitted to the Office of Management and Budget (OMB) for approval an extension, without change, of an existing information collection related to Passenger Vessel Operators (PVOs). The public is invited to comment on the information collection pursuant to the Paperwork Reduction Act of 1995.

DATES: Written comments must be submitted on or before December 30, 2024.

ADDRESSES: The Commission is accepting comments using the Federal eRulemaking Portal at www.regulations.gov. The docket for this notice, which includes a copy of form FMC-131, Application for Certificate of Financial Responsibility (Performance and Casualty), and submitted comments, can be found at https://www.regulations.gov/ under Docket No. FMC-2024-0016. Follow the instructions provided for submitting comments.

FOR FURTHER INFORMATION CONTACT: Robyn K. Smith, (202) 523-5818, pvo@fmc.gov.

SUPPLEMENTARY INFORMATION: The Commission invites the general public and other Federal agencies to comment on any aspect of the continuing information collection listed in this notice, as required by the Paperwork Reduction Act of 1995 (44 U.S.C. 3501 et seq.). We are particularly interested in receiving comments on: (1) the necessity and utility of the proposed information collection for the proper performance of the agency's functions; (2) the accuracy of the estimated burden; (3) ways to enhance the quality, utility, and clarity of the information to be collected; and (4) the use of automated collection techniques or other forms of information technology to minimize the information collection burden.

Comments submitted in response to this notice will be included or summarized in our request for Office of Management and Budget (OMB) approval of the relevant information collection. All comments are part of the public record and subject to disclosure. Please do not include any confidential or inappropriate material in your comments.

Information Collection Open for Comment

Title: 46 CFR part 540—Application for Certificate of Financial Responsibility/Form FMC-131.

OMB Approval Number: 3072-0012 (Expires July 31, 2025).

Abstract: Sections 44101 through 44106 of title 46 of the United States Code require owners, charterers, or operators of passenger vessels with 50 or more passenger berths or stateroom accommodations that embark passengers at United States ports and territories to establish and maintain evidence of their financial responsibility to meet liability incurred for death or injury to passengers and other persons, and to indemnify passengers in the event of nonperformance of transportation. The Commission's regulations at 46 CFR part 540 implement these statutory provisions and specify financial responsibility coverage requirements for such owners, charterers, or operators.

Current Actions: There are no changes to this information collection, and it is being submitted for extension purposes only.

Type of Review: Extension.

Needs and Uses: The information will be used by Commission staff to ensure that passenger vessel owners, charterers, and operators have evidenced financial responsibility to indemnify passengers and others in the event of nonperformance or casualty.

Frequency: This information is collected when applicants apply for a certificate or when existing certificate holders change any information in their application forms.

Type of Respondents: Respondents are owners, charterers, or operators of passenger vessels with 50 or more passenger berths that embark passengers from U.S. ports or territories.

Number of Annual Respondents: There are approximately 52 PVOs registered with the Commission that are required to demonstrate financial responsibility under the regulations.

Estimated Time per Response: The time per response ranges from 0.5 to 8 hours for reporting and recordkeeping requirements contained in the regulations (depending on the type of financial responsibility demonstrated, a PVO may be required to submit information multiple times per year), and 8 hours for completing Application Form FMC-131.

Total Annual Burden: The Commission estimates the total industry burden at 1,243 hours per year.

David Eng,
Secretary.

[FR Doc. 2024-25131 Filed 10-29-24; 8:45 am]

BILLING CODE 6730-02-P